NUCLEAR REGULATORY COMMISSION

Request for a License To Import Radioactive Waste

Pursuant to 10 CFR 110.70(c) “Public notice of receipt of an application,” please take notice that the Nuclear Regulatory Commission (NRC) has received the following request for an import license. Copies of the request are available electronically through ADAMS and can be accessed through the Public Electronic Reading Room (PERR) link: http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this license application follows.

NRC Import License Application
Description of Material: Name of applicant date of application date received application No. docket No. | Description of Material: Material type | Description of Material: Total quantity | Description of Material: End use | Description of Material: Country of origin
Pacific EcoSolutions, Inc. is in the process of changing its name to Perma-Fix Northwest. Inc. If approved, the licensee for this import will be Perma-Fix Northwest. Inc. May 16, 2007 June 18, 2007 IW022 11005700 | Class A radioactive waste including various materials (e.g., wood, metal, paper, cloth, concrete, rubber, plastic, liquids, aqueous-organic fluids, animal carcasses, and human-animal waste) contaminated with radionuclides during licensed activities; e.g., routine operations, maintenance, equipment use, decontamination, remediation, and decommissioning. | Up to a maximum total of 5,500 tons or about 1,000 tons metal, 4,000 tons dry activity material, and 500 tons liquid, contaminated with various radionuclides in varying combinations. Activity levels will not exceed licensee possession limits, and materials will be handled in accordance with all U.S. Federal and State regulations. | Recycling for beneficial reuse and processing for volume reduction via thermal and non-thermal treatment. Liquids to be recycled. Non-conforming materials and/or radioactive waste that is attributed to Canadian supplier, will be returned per appropriate NRC export license (Ref. XW012), and will not remain in the U.S. | Canada.

For the Nuclear Regulatory Commission.
Dated this 24th day of July, 2007, at Rockville, Maryland.
Stephen Dembek,
Acting Deputy Director, Office of International Programs.

[FR Doc. E7-14931 Filed 7-31-07; 8:45 am]

BILLING CODE 7590-01-P